DEPARTMENT OF HEALTH AND HUMAN SERVICES

Centers for Disease Control and Prevention

Draft Guidelines for Preventing the Transmission of Mycobacterium tuberculosis in Health-care Settings, 2005

AGENCY: Centers for Disease Control and Prevention (CDC), Department of Health and Human Services (HHS).

ACTION: Notice for public comment.

SUMMARY: The purpose of this notice is to request public comment on draft Guidelines for Preventing the Transmission of Mycobacterium tuberculosis in Health-care Settings, 2005 (Guidelines). These Guidelines are available at the CDC Web site at http://www.cdc.gov/nchstp/tb/Federal_Register/default.htm as a pdf file. The Guidelines will be used by infection control staff, healthcare epidemiologists, healthcare administrators, facility managers, and other persons responsible for developing, implementing, and evaluating infection-control programs for healthcare settings across the continuum of patient care. These Guidelines update the CDC Guidelines for Preventing the Transmission of Mycobacterium tuberculosis in Health-care Facilities and were last published in 1994.

The 2005 draft Guidelines reflect shifts in the epidemiology of tuberculosis, advances in scientific understanding, and changes in health-care practice that have occurred in the United States in the last decade.

DATES: Comments on the draft Guidelines for Preventing the Transmission of Mycobacterium tuberculosis in Health-care Settings, 2005, must be received in writing on or before February 4, 2005.

ADDRESSES: Comments on the draft Guidelines should be labeled “Public comment on Draft Guidelines for Preventing the Transmission of Mycobacterium tuberculosis in Health-care Settings, 2005,” and submitted by e-mail to TBinfectioncontrol@cdc.gov. Please include the specific section, paragraph, and page number for each comment. If unable to submit electronically, comments may be mailed to Public Comment on Draft Guidelines for Preventing the Transmission of Mycobacterium tuberculosis in Health-care Settings 2005, Centers for Disease Control and Prevention, Division of Tuberculosis Elimination, 1600 Clifton Road, NE., Mailstop E10, Atlanta, Georgia 30333. Comments may also be faxed to 404-929-2676.

FOR FURTHER INFORMATION CONTACT: Lauren Lambert, Centers for Disease Control and Prevention, National Center for HIV, STD, and TB Prevention, 1600 Clifton Road, NE., Mailstop E10, Atlanta, Georgia 30333. Telephone: (404) 639-8120. Email: TBinfectioncontrol@cdc.gov.

SUPPLEMENTARY INFORMATION: As stated above, the 2005 draft Guidelines reflect shifts in the epidemiology of tuberculosis, advances in scientific understanding, and changes in health-care practice that have occurred in the United States in the last decade. In the context of diminished risk of health-care-associated transmission of M. tuberculosis, the 2005 Draft Guidelines places emphasis on actions needed to maintain momentum and expertise needed to avert another resurgence of tuberculosis and to eliminate the lingering threat to healthcare workers, which is mainly from patients or others with unsuspected and undiagnosed infectious tuberculosis disease. Whereas previous Guidelines were aimed primarily at hospital-based facilities, the 2005 CDC Guidelines have been expanded to address a broader concept: health-care-associated settings go beyond the previously defined facilities. CDC expects to publish final Guidelines in 2005.

Dated: November 24, 2004.
James D. Seligman,
Associate Director for Program Services, Centers for Disease Control and Prevention (CDC).

[FR Doc. 04-26710 Filed 12-3-04; 8:45 am]

BILLING CODE 4163-18-P